DEPARTMENT OF HEALTH AND HUMAN SERVICES

Health Resources and Services Administration

Announcing Project Period Extensions With Funding for Health Center Program Award Recipients in Puerto Rico; Health Center Program

AGENCY: Health Resources and Services Administration (HRSA), Department of Health and Human Services (HHS).

ACTION: Announcing project period extensions with Funding for Health Center Program Award recipients in Puerto Rico.

SUMMARY: HRSA provided additional grant funds to 4 award recipients in Puerto Rico with project periods ending in fiscal year 2018 to extend their current project periods by 12 months to prevent interruptions in the provision of critical health care services while they recover from Hurricane Maria.

SUPPLEMENTARY INFORMATION:

Recipients of the Award: Four Health Center Program award recipients in Puerto Rico vulnerable to a lapse in service provision in their service areas due to the impact of Hurricane Maria on the operational resources available for competitive application preparation for fiscal year 2018, as listed in Table 1.

Amount of Non-Competitive Awards: Four awards for $17,482,070.

Period of Supplemental Funding: Fiscal year 2018.

CFDA Number: 93.224.

Authority: Section 330 of the Public Health Service Act, as amended (42 U.S.C. 254b, as amended).

Justification: In September 2017, HHS declared a hurricane-related public health emergency in Puerto Rico. Health centers in Puerto Rico and the patients they serve continue to face significant challenges associated with recovery from Hurricane Maria. For these four award recipients, the funding permits them to continue to operate in the current fiscal year before submitting competitive applications by the end of the 12-month extension period. Extending the project period and providing flexibility for competing applications for these four award recipients aligns with the Office of Management and Budget's memorandum to provide short-term relief to affected award recipients, “Administrative Relief for Grantees Impacted by Hurricanes Harvey, Irma, and Maria,” signed on October 26, 2017.

HRSA awarded approximately $17 million to the four existing Health Center Program award recipients noted in Table 1.

Table 1—Recipients and Award Amounts
Grant No. | Award recipient name | State | Award amount
H80CS00382 | Morovis Community Health Center, Inc | PR | $2,561,918
H80CS00695 | HPM Foundation, Inc | PR | 4,938,854
H80CS00598 | Salud Integral en la Montana, Inc | PR | 7,720,986
H80CS22687 | Corporacion de Salud Asegurada por Nuestra Organizacin Solidaria, Inc. (S.A.N.O.S.) | PR | 2,260,312

FOR FURTHER INFORMATION CONTACT: Olivia Shockey, Expansion Division Director, Office of Policy and Program Development, Bureau of Primary Health Care, Health Resources and Services Administration, at oshockey@hrsa.gov or 301-594-4300.

Dated: February 27, 2018.
George Sigounas,
Administrator.

[FR Doc. 2018-04507 Filed 3-5-18; 8:45 am]

BILLING CODE 4165-15-P